DEPARTMENT OF ENERGY

Federal Energy Regulatory Commission

Combined Notice of Filings #2

October 14, 2010.

Take notice that the Commission received the following exempt wholesale generator filings:

Docket Numbers: EG11-5-000.

Applicants: Sandy Ridge Wind, LLC.

Description: Sandy Ridge Wind, LLC Notice of Self-Certification of EWG Status.

Filed Date: 10/14/2010.

Accession Number: 20101014-5051.

Comment Date: 5 p.m. Eastern Time on Thursday, November 4, 2010.

Take notice that the Commission received the following electric rate filings:

Docket Numbers: ER08-1385-003; ER08-401-004; ER09-1429-004; ER99-2287-007.

Applicants: Black Hills Power, Inc., Black Hills/Colorado Electric Utility Co, Black Hills Wyoming, LLC, Cheyenne Light, Fuel and Power Company.

Description: Updated Market Power Analysis of the Black Hills Public Utilities for the Northwest Region.

Filed Date: 10/12/2010.

Accession Number: 20101012-5371.

Comment Date: 5 p.m. Eastern Time on Monday, December 13, 2010.

Docket Numbers: ER10-1424-001.

Applicants: Eagle Industrial Power Services (IL), LL.

Description: Eagle Industrial Power Services (IL), LLC submits a notice of name change.

Filed Date: 10/08/2010.

Accession Number: 20101008-0006.

Comment Date: 5 p.m. Eastern Time on Friday, October 29, 2010.

Docket Numbers: ER10-1482-001; OA10-10-001.

Applicants: Wildorado Wind, LLC and Wildorado Wind Two, LLC.

Description: Wildorado Wind, LLC et al submits a revision to their FERC Rate Schedule 1 to reflect the effective date of 9/30/10.

Filed Date: 10/08/2010.

Accession Number: 20101008-0203.

Comment Date: 5 p.m. Eastern Time on Friday, October 29, 2010.

Docket Numbers: ER10-2298-001.

Applicants: Enserco Energy Inc.

Description: Enserco Energy Inc. submits tariff filing per 35.17(b): MBR Application of Enserco Energy LLC to be effective 9/1/2010.

Filed Date: 10/12/2010.

Accession Number: 20101012-5354.

Comment Date: 5 p.m. Eastern Time on Tuesday, November 02, 2010.

Docket Numbers: ER10-2438-003.

Applicants: ISO New England Inc.

Description: ISO New England Inc. submits tariff filing per 35: ISO-NE Third Amendment Errata to Baseline Filing to be effective 8/30/2010.

Filed Date: 10/12/2010.

Accession Number: 20101012-5147.

Comment Date: 5 p.m. Eastern Time on Tuesday, November 02, 2010.

Docket Numbers: ER10-2345-002.

Applicants: Woodland Pulp LLC.

Description: Woodland Pulp LLC submits tariff filing per 35.17(b): Amendment to Market-Based Rate Application Reflecting Change in Status to be effective 10/13/2010.

Filed Date: 10/13/2010.

Accession Number: 20101013-5165.

Comment Date: 5 p.m. Eastern Time on Wednesday, October 27, 2010.

Docket Numbers: ER10-2457-001.

Applicants: Florida Power & Light Company.

Description: Florida Power & Light Company submits Revised Section No. 23.1 for inclusion in FPL's Open Access Transmission Tariff, Order No. 739 Section 23 Compliance, to be effective 10/1/2010.

Filed Date: 10/12/2010.

Accession Number: 20101012-5005.

Comment Date: 5 p.m. Eastern Time on Tuesday, November 02, 2010.

Docket Numbers: ER10-2710-003.

Applicants: PJM Interconnection, L.L.C.

Description: PJM Interconnection, L.L.C. submits their baseline filing of its Open Access Transmission Tariff, Amended and Restated Operating Agreement etc, to be effective 9/17/2010.

Filed Date: 10/14/2010.

Accession Number: 20101014-5001.

Comment Date: 5 p.m. Eastern Time on Thursday, November 4, 2010.

Docket Numbers: ER10-2713-002.

Applicants: PJM Interconnection, L.L.C.

Description: PJM Interconnection, L.L.C. submits tariff filing per 35: PJM Rate Schedule Errata Filing to be effective 9/17/2010.

Filed Date: 10/13/2010.

Accession Number: 20101013-5179.

Comment Date: 5 p.m. Eastern Time on Wednesday, November 3, 2010.

Docket Numbers: ER10-2748-001.

Applicants: Entergy Arkansas, Inc.

Description: Entergy Operating Companies submits amendments to Entergy's September 17, 2010 filing which extend the Subsequent Term of the Independent Coordinator of Transmission, to be effective 11/17/2010.

Filed Date: 10/14/2010.

Accession Number: 20101014-5000.

Comment Date: 5 p.m. Eastern Time on Thursday, November 4, 2010.

Docket Numbers: ER10-2776-001.

Applicants: Wells Fargo Commodities, LLC.

Description: Wells Fargo Commodities, LLC submits its Market-Based Rate Tariff, to be effective 9/17/2010.

Filed Date: 10/13/2010.

Accession Number: 20101013-5004.

Comment Date: 5 p.m. Eastern Time on Wednesday, November 3, 2010.

Docket Numbers: ER11-62-000.

Applicants: El Segundo Power LLC.

Description: El Segundo Power LLC submits tariff filing per 35.12: El Segundo Power—Amendment to Market-Based Rate Tariffs to be effective 10/11/2010.

Filed Date: 10/08/2010.

Accession Number: 20101008-5125.

Comment Date: 5 p.m. Eastern Time on Friday, October 29, 2010.

Docket Numbers: ER11-63-000.

Applicants: Long Beach Peakers LLC.

Description: Long Beach Peakers LLC submits tariff filing per 35.12: Long Beach Peakers—Amendment to Market-Based Rate Tariffs to be effective 10/11/2010.

Filed Date: 10/08/2010.

Accession Number: 20101008-5127.

Comment Date: 5 p.m. Eastern Time on Friday, October 29, 2010.

Docket Numbers: ER11-87-001.

Applicants: PJM Interconnection, L.L.C.

Description: PJM Interconnection, L.L.C. submits tariff filing per 35: Errata to Docket ER11-87-000 re Compliance Filing in Docket ER10-1762-001 to be effective 9/17/2010.

Filed Date: 10/13/2010.

Accession Number: 20101013-5101.

Comment Date: 5 p.m. Eastern Time on Wednesday, November 3, 2010.

Docket Numbers: ER11-93-000.

Applicants: Midwest Independent Transmission System Operator, Inc.

Description: Midwest Independent Transmission System Operator, Inc. submits tariff filing per 35.13(a)(2)(iii: G252 LGIA Filing to be effective 10/14/2010.

Filed Date: 10/13/2010.

Accession Number: 20101013-5020.

Comment Date: 5 p.m. Eastern Time on Wednesday, November 3, 2010.

Docket Numbers: ER11-94-000.

Applicants: NSTAR Electric Company.

Description: NSTAR Electric Company submits tariff filing per 35.12: NSTAR Electric Establishment of Tariff Identifier to be effective 10/13/2010.

Filed Date: 10/13/2010.

Accession Number: 20101013-5039.

Comment Date: 5 p.m. Eastern Time on Wednesday, November 3, 2010.

Docket Numbers: ER11-95-000.

Applicants: Tampa Electric Company.

Description: Tampa Electric Company submits tariff filing per 35.13(a)(2)(iii: Service Agreement No. 5 With Florida Power & Light to be effective 10/13/2010.

Filed Date: 10/13/2010.

Accession Number: 20101013-5040.

Comment Date: 5 p.m. Eastern Time on Wednesday, November 3, 2010.

Docket Numbers: ER11-97-000.

Applicants: Louisville Gas and Electric Company.

Description: Louisville Gas and Electric Company submits tariff filing per 35.13(a)(2)(iii: 10_13_10 205 Filing Executed EEI Interconnection to be effective 12/13/2010.

Filed Date: 10/13/2010.

Accession Number: 20101013-5061.

Comment Date: 5 p.m. Eastern Time on Wednesday, November 3, 2010.

Docket Numbers: ER11-98-000.

Applicants: Kentucky Utilities Company.

Description: Kentucky Utilities Company submits tariff filing per 35.13(a)(2)(iii: 10_13_10 KU Concurrence Executed EEI Interconnection to be effective 12/13/2010.

Filed Date: 10/13/2010.

Accession Number: 20101013-5065.

Comment Date: 5 p.m. Eastern Time on Wednesday, November 3, 2010.

Docket Numbers: ER11-99-000.

Applicants: Midwest Independent Transmission System Operator, Inc.

Description: Midwest Independent Transmission System Operator, Inc. submits tariff filing per 35.13(a)(2)(iii): GRE-MN Power T-T Filing to be effective 10/14/2010.

Filed Date: 10/13/2010.

Accession Number: 20101013-5111.

Comment Date: 5 p.m. Eastern Time on Wednesday, November 3, 2010.

Docket Numbers: ER11-100-000.

Applicants: Keystone Generation, LLC.

Description: Keystone Generation, LLC submits tariff filing per 35.13(a)(2)(iii): Keystone Succession Filing to be effective 9/21/2010.

Filed Date: 10/13/2010.

Accession Number: 20101013-5112.

Comment Date: 5 p.m. Eastern Time on Wednesday, November 3, 2010.

Docket Numbers: ER11-101-000.

Applicants: Connecticut Yankee Atomic Power Company.

Description: Connecticut Yankee Atomic Power Company submits tariff filing per 35.12: Baseline Filing of Amended Rate Schedules to be effective 1/1/2011.

Filed Date: 10/13/2010.

Accession Number: 20101013-5113.

Comment Date: 5 p.m. Eastern Time on Wednesday, November 3, 2010.

Docket Numbers: ER11-102-000.

Applicants: Wildorado Wind, LLC, Wildorado Wind Two, LLC.

Description: Wildorado Wind, LLC submits tariff filing per 35.12: Assignment, Cotenancy and Common Facilities Agreement to be effective 10/13/2010.

Filed Date: 10/13/2010.

Accession Number: 20101013-5116.

Comment Date: 5 p.m. Eastern Time on Wednesday, November 3, 2010.

Docket Numbers: ER11-103-000.

Applicants: The Potomac Edison Company.

Description: The Potomac Edison Company submits tariff filing per 35.15: Potomac Edison Cancellation of Tariff Record to be effective 10/13/2010.

Filed Date: 10/13/2010.

Accession Number: 20101013-5158.

Comment Date: 5 p.m. Eastern Time on Wednesday, November 3, 2010.

Docket Numbers: ER11-104-000.

Applicants: Perryman Power, LLC.

Description: Perryman Power, LLC submits tariff filing per 35.13(a)(2)(iii): Perryman Power Succession filing to be effective 9/21/2010.

Filed Date: 10/13/2010.

Accession Number: 20101013-5167.

Comment Date: 5 p.m. Eastern Time on Wednesday, November 3, 2010.

Docket Numbers: ER11-105-000.

Applicants: Wildorado Wind, LLC, Wildorado Wind Two, LLC.

Description: Wildorado Wind, LLC submits tariff filing per 35.13(a)(2)(iii): Revised Assignment, Cotenancy and Common Facilities Agreement to be effective 10/13/2010.

Filed Date: 10/13/2010.

Accession Number: 20101013-5170.

Comment Date: 5 p.m. Eastern Time on Wednesday, November 3, 2010.

Docket Numbers: ER11-106-000.

Applicants: West Penn Power Company.

Description: West Penn Power Company submits tariff filing per 35.15: West Penn Cancellation of Tariff Record to be effective 10/13/2010.

Filed Date: 10/13/2010.

Accession Number: 20101013-5171.

Comment Date: 5 p.m. Eastern Time on Wednesday, November 3, 2010.

Docket Numbers: ER11-107-000.

Applicants: Conemaugh Generation, LLC.

Description: Conemaugh Generation, LLC submits tariff filing per 35.13(a)(2)(iii): Conemaugh Succession Filing to be effective 9/21/2010.

Filed Date: 10/13/2010.

Accession Number: 20101013-5183.

Comment Date: 5 p.m. Eastern Time on Wednesday, November 3, 2010.

Docket Numbers: ER11-108-000.

Applicants: C.P. Crane Power, LLC.

Description: C.P. Crane Power, LLC submits tariff filing per 35.13(a)(2)(iii): CP Crane Power Succession Filing to be effective 9/21/2010.

Filed Date: 10/13/2010.

Accession Number: 20101013-5187.

Comment Date: 5 p.m. Eastern Time on Wednesday, November 3, 2010.

Docket Numbers: ER11-109-000.

Applicants: Yankee Atomic Electric Company.

Description: Yankee Atomic Electric Company submits tariff filing per 35.12: Baseline Filing of Amended Rate Schedule to be effective 1/1/2011.

Filed Date: 10/13/2010.

Accession Number: 20101013-5202.

Comment Date: 5 p.m. Eastern Time on Wednesday, November 3, 2010.

Docket Numbers: ER11-111-000.

Applicants: Public Service Company of New Mexico.

Description: Public Service Company of New Mexico submits tariff filing per 35.12: PNM Rate Schedules and Agreements to be effective 10/15/2010.

Filed Date: 10/14/2010.

Accession Number: 20101014-5026.

Comment Date: 5 p.m. Eastern Time on Thursday, November 4, 2010.

Docket Numbers: ER11-112-000.

Applicants: Oklahoma Gas and Electric Company.

Description: Application of Oklahoma Gas and Electric Company.

Filed Date: 10/12/2010.

Accession Number: 20101012-5372.

Comment Date: 5 p.m. Eastern Time on Tuesday, November 2, 2010.

Docket Numbers: ER11-113-000.

Applicants: Sandy Ridge Wind, LLC.

Description: Sandy Ridge Wind, LLC submits tariff filing per 35.12: Market-Based Rate Tariff to be effective 12/15/2010.

Filed Date: 10/14/2010.

Accession Number: 20101014-5048.

Comment Date: 5 p.m. Eastern Time on Thursday, November 4, 2010.

Docket Numbers: ER11-114-000.

Applicants: Public Service Company of Colorado.

Description: Public Service Company of Colorado submits tariff filing per 35: 2010-10-14_Att-O_SPS_Changes_FERC_Filing to be effective 8/1/2010.

Filed Date: 10/14/2010.

Accession Number: 20101014-5060.

Comment Date: 5 p.m. Eastern Time on Thursday, November 4, 2010.

Docket Numbers: ER11-115-000.

Applicants: Louisville Gas and Electric Company.

Description: Louisville Gas and Electric Company submits tariff filing per 35.13(a)(2)(iii): ER08_1275 TVA NITSA and NOA Executed to be effective 7/18/2010.

Filed Date: 10/14/2010.

Accession Number: 20101014-5065.

Comment Date: 5 p.m. Eastern Time on Thursday, November 4, 2010.

Take notice that the Commission received the following electric securities filings:

Docket Numbers: ES11-1-000.

Applicants: Oklahoma Gas and Electric Company.

Description: Application for authority to issue short-term debt of Oklahoma Gas and Electric Company.

Filed Date: 10/13/2010.

Accession Number: 20101013-5102.

Comment Date: 5 p.m. Eastern Time on Wednesday, November 3, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-26756 Filed 10-21-10; 8:45 am]

BILLING CODE 6717-01-P